CORPORATION FOR NATIONAL AND COMMUNITY SERVICE

Sunshine Act Meeting Notice

The National Civilian Community Corps Advisory Board gives notice of the following meeting:

DATE AND TIME: Tuesday, July 15, 2014, 1:30 p.m.-2:30 p.m. (ET).

PLACE: Conference Room 8312, 8th floor, Corporation for National and Community Service Headquarters, 1201 New York Avenue NW., Washington, DC 20525.

CALL-IN INFORMATION: This meeting is available to the public through the following toll-free call-in number: 888-324-9605 conference call access code number 8563991. Kate Becker will be the lead on the call. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 866-465-2119, replay passcode 2119. The end replay date: August 15, 2014, 10:00 p.m. (CT).

STATUS: Open.

MATTERS TO BE CONSIDERED:

I. Meeting Convenes

• Call to Order, Welcome, and Preview of Today's Meeting Agenda

• Introduction & Acknowledgements

II. Approval of Previous Meeting's Minutes

III. Program Report

IV. Budget and Operations Report

V. Public Comment

ACCOMMODATIONS: Anyone who needs an interpreter or other accommodation should notify the Corporation's contact person by 5:00 p.m. Friday, July 11, 2014.

CONTACT PERSON FOR MORE INFORMATION: Erma Hodge, NCCC, Corporation for National and Community Service, 9th Floor, Room 9802B, 1201 New York Avenue NW., Washington, DC 20525. Phone: 202-606-6696. Fax: 202-606-3459. TTY: 800-833-3722. Email: ehodge@cns.gov.

Dated: June 4, 2014.
Valerie E. Green,
General Counsel.

[FR Doc. 2014-13519 Filed 6-5-14; 4:15 pm]

BILLING CODE 6050-28-P